DEPARTMENT OF TRANSPORTATION

National Highway Traffic Safety Administration

[Docket No. NHTSA 2005-21675; Notice 2]

General Motors Corporation, Grant of Petition for Decision of Inconsequential Noncompliance

General Motors Corporation (General Motors) has determined that certain model year 2005 vehicles that it produced do not comply with S6 of 49 CFR 571.205, Federal Motor Vehicle Safety Standard (FMVSS) No. 205, “Glazing materials.” Pursuant to 49 U.S.C. 30118(d) and 30120(h), General Motors has petitioned for a determination that this noncompliance is inconsequential to motor vehicle safety and has filed an appropriate report pursuant to 49 CFR Part 573, “Defect and Noncompliance Reports.” Notice of receipt of a petition was published, with a 30-day comment period, on June 30, 2005, in the Federal Register (70 FR 37893). NHTSA received no comments.

Affected are a total of approximately 7,326 model year 2005 Chevrolet Corvette coupes equipped with removable transparent Targa roofs. S6, certification and marking, of FMVSS No. 205 and the referenced Section 7 of ANSI/SAE Z26.1-1996 specify that the required identification and certification markings must be located on the glazing. On the subject vehicles, the required markings are present, but they are located on the frame of the Targa roof assembly, rather than on the glazing portion of the roof assembly.

General Motors believes that the noncompliance is inconsequential to motor vehicle safety and that no corrective action is warranted. The petitioner states:

—The subject glazing meets all applicable performance requirements of FMVSS No. 205. There is no safety performance implication associated with this technical noncompliance.

—The certifications markings required by FMVSS No. 205 are provided on the frame of the subject Corvette Targa roof assemblies. This noncompliance relates only to the location of the required markings, not to their presence.

—Once assembled, the Targa roof frame and glazing are indivisible. For in-service repair, the roof assembly (glazing mounted in frame) is serviced as a unit. There is no service provision to replace only the frame or only the glazing. As a practical matter, therefore, marking the frame is functionally equivalent to marking the glazing.

—Given the small volume of service parts that will be needed and the high investment cost required to manufacture the subject Corvette roof assemblies, it is probable that all service parts will be manufactured by the same supplier as the original equipment parts. Accordingly, there is virtually no chance of uncertainty about the manufacturer of the subject parts, should a need to identify the manufacturer arise in the future.

—GM is not aware of any crashes, injuries, customer complaints or field reports associated with this condition.

General Motors also states that NHTSA has previously granted inconsequential noncompliance petitions involving the omission of FMVSS No. 205 markings and provides the following examples: Western Star Trucks (63 FR 66232, 12/1/1998), Ford Motor Company (64 FR 70116, 12/15/1999), Toyota Motor Corporation (68 FR 10307, 3/4/2003), and Freightliner LLC (68 FR 65991, 11/24/2003).

NHTSA agrees with General Motors that the noncompliance is inconsequential to motor vehicle safety. The glazing meets all applicable performance requirements of FMVSS No. 205. The certifications markings required by FMVSS No. 205 are provided on the frame of the subject Corvette Targa roof assemblies. The roof frame and glazing are indivisible, and for in-service repair, the roof assembly (glazing mounted in frame) is serviced as a unit. Therefore, there should not be any problem obtaining the appropriate replacement glazing.

General Motors is correct that the four petitions it cited, from Western Star Trucks, Ford Motor Company, Toyota Motor Corporation, and Freightliner LLC, were granted by NHTSA based on this rationale. General Motors has corrected the problem.

In consideration of the foregoing, NHTSA has decided that the petitioner has met its burden of persuasion that the noncompliance described is inconsequential to motor vehicle safety. Accordingly, General Motors's petition is granted and the petitioner is exempted from the obligation of providing notification of, and a remedy for, the noncompliance.

Authority: (49 U.S.C. 30118, 30120; delegations of authority at CFR 1.50 and 501.8)

Issued on: August 19, 2005.
Ronald L. Medford,
Senior Associate Administrator for Vehicle Safety.

[FR Doc. 05-16862 Filed 8-24-05; 8:45 am]

BILLING CODE 4910-59-P